DEPARTMENT OF LABOR

Office of the Secretary

Submission for OMB Review; Comment Request

June 20, 2000.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation for BLS, ETA, PWBA, and OASAM contact Karin Kurz ((202) 219-5096 ext. 159 or by E-mail to Kurz-Karin@dol.gov). To obtain documentation for ESA, MSHA, OSHA, and VETS contact Darrin King ((202) 219-5096 ext. 151 or by E-Mail to King-Darrin@dol.gov).

Comments should be sent to Office of Information and Regulatory Affairs, Attn: OMB Desk Officer for BLS, DM, ESA, ETA, MSHA, OSHA, PWBA, or VETS, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration (OSHA).

Title: Construction Records for Blasting Operations.

Type of Review: Extension.

OMB Number: 1218-0217.

Frequency: On occasion.

Affected Public: Business or other for-profit.

Number of Respondents: 160.

Number of Annual Responses: 160.

Estimated Time Per Response: 8 hours, once per worksite.

Total Burden Hours: 1,280 hours.

Total Annualized capital/startup costs: $0.

Total annual costs (operating/maintaining systems or purchasing services): $227,200.

Description: The construction standard for blasting operations (29 CFR 1926.900(k)(3)(i)) requires employers to post warning signs or use other alternative means to prevent premature detonation of electric blasting caps and explosives attached to them by mobile radio transmitters. A written description of the alternative means (measures) to be taken must be prepared.

Agency: Occupational Safety and Health Administration (OSHA).

Title: Trucks Used Underground to Transport Explosives_Inspection Certification.

Type of Review: Extension.

OMB Number: 1218-0227.

Frequency: Weekly.

Affected Public: Business or other for-profit; Federal Government; State, Local, or Tribal Government.

Number of Respondents: 1.

Number of Annual Responses: 52.

Estimated Time Per Response: 10 minutes.

Total Burden Hours: 9 hours.

Total Annualized capital/startup costs: $0.

Total annual costs (operating/maintaining systems or purchasing services): $0.

Description: The construction standard for underground transportation of explosives (29 CFR 1926.903(e)) requires certification of a weekly maintenance inspection of trucks used for this purpose. The inspection certification, which attests to the safety of the truck's electrical system, is necessary to ensure compliance with the standard.

Agency: Occupational Safety and Health Administration (OSHA).

Title: Construction Records for Test and Inspection of Personal Hoists.

Type of Review: Extension.

OMB Number: 1218-0231.

Frequency: On occasion, Quarterly.

Affected Public: Business or other for-profit.

Number of Respondents: 14,400.

Number of Annual Responses: 63,360.

Estimated Time Per Response: 15 minutes.

Total Burden Hours: 15,840 hours.

Total Annualized capital/startup costs: $0.

Total annual costs (operating/maintaining systems or purchasing services): $0.

Description: Following assembly and erection of hoists, and before being put in service, 29 CFR 1926.552(c)(15) requires that an inspection and test of all functions and safety devices be made under the supervision of a competent person. A similar inspection and test is required following major alteration of an existing installation. All hoists shall be inspected and tested at not more than 3-month intervals.

Agency: Occupational Safety and Health Administration (OSHA).

Title: Rigging Equipment for Material Handling.

Type of Review: Extension.

OMB Number: 1218-0233.

Frequency: On occasion.

Affected Public: Business or other for-profit.

Number of Respondents: 18,940.

Number of Annual Responses: 18,940.

Estimated Time Per Response: 5 minutes.

Total Burden Hours: 1,515 hours.

Total Annualized capital/startup costs: $0.

Total annual costs (operating/maintaining systems or purchasing services): $0.

Description: The construction standard on rigging equipment for material handling (29 CFR 1926.251(c)(15)(ii)) requires employers to retain a certificate of the proof-test performed on welded end wire rope attachments. The certification, prepared by the manufacturer or equivalent entity, attests to the safety of the attachments after welding by testing them at twice their rated capacity.

Ira L. Mills,
Departmental Clearance Officer.

[FR Doc. 00-16090 Filed 6-23-00; 8:45 am]

BILLING CODE 4510-26-M